DEPARTMENT OF HEALTH AND HUMAN SERVICES

Administration for Children and Families

Submission for OMB Review; Head Start REACH: Strengthening Outreach, Recruitment, and Engagement Approaches With Families (New Collection)

AGENCY: Office of Planning, Research, and Evaluation, Administration for Children and Families, HHS.

ACTION: Request for public comment.

SUMMARY: The Administration for Children and Families (ACF) within the U.S. Department of Health and Human Services (HHS) is proposing to collect data on different approaches that Head Start programs use for the recruitment, selection, enrollment, and retention (RSER) of families facing adversities and the community organizations with which it partners to support these activities. This study aims to present an internally valid description of RSER approaches used by six purposively selected programs, not to promote statistical generalization to different sites or service populations.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Head Start REACH: Strengthening Outreach, Recruitment and Engagement Approaches with Families project is proposing to conduct qualitative case studies to examine the approaches used by Head Start programs to recruit, select, enroll, and retain families experiencing adversities and the implementation of these approaches, including supporting factors and barriers. Adversities is a broad term that refers to a wide range of circumstances or events that pose a threat to a child or caregiver's physical or psychological well-being. The adversities that families experience are often intertwined with poverty, may co-occur, and are affected by systematic factors, such as structural racism. Common examples include (but are not limited to) families experiencing homelessness; involvement in child welfare, including foster care; and affected by substance use, mental health issues, and domestic violence.

We will collect information from six sites; each site will include (1) a Head Start program that has demonstrated success in the RSER of families experiencing adversities and (2) up to four of its community partner organizations that serve families experiencing adversities.

We will collect information on how programs determine which adversities to focus on for their RSER efforts; RSER approaches programs use, focusing specifically on families experiencing adversities; RSER-related training and support that Head Start staff receive; partnerships that programs form with organizations in the community to support these activities; and supporting factors and barriers to participation of enrolled and non-enrolled families who face adversities.

Respondents: Head Start program directors, Head Start staff conducting eligibility, recruitment, selection, enrollment, attendance (ERSEA) activities, staff from community organizations with which Head Start programs partner for ERSEA activities, Head Start-eligible parents enrolled in Head Start, and those not enrolled in Head Start.

Annual Burden Estimates

Instrument | Number of respondents (total over request period) | Number of responses per respondent (total over request period) | Average burden per response (in hours) | Total/annual burden (in hours)
Program director recruitment call protocol (Instrument 1) | 6 | 1 | 0.50 | 3.0
Program staff interview protocol: Program director (Instrument 2) ᵃ | 6 | 1 | 1.0 | 6.0
Program staff interview protocol ERSEA staff (Instrument 2) ᵃ | 24 | 1 | 1.5 | 36
Head Start program study activities and focus group coordination ᵇ | 6 | 1 | 8.0 | 48
Head Start enrolled families focus group guide (Instrument 3) | 60 | 1 | 1.5 | 90
Community partner recruitment call protocol (Instrument 4) | 24 | 1 | 0.17 | 4.0
Community partner staff interview protocol (Instrument 5) | 24 | 1 | 0.75 | 18
Community partner focus group coordination ᵇ | 6 | 1 | 3.0 | 18
Families not enrolled in Head Start focus group guide (Instrument 6) ᶜ | 60 | 1 | 1.5 | 90
ᵃ There is one interview protocol for both the program director and the ERSEA staff and the interviewer will tailor it to the respondent(s).
ᵇ There is no instrument, only a document of duties associated with this activity.
ᶜ If needed, we will offer the option of a 45-minute one-on-one interview; however, as we do not expect to have to use the interview option often, the table reflects a 90-minute burden for all families not enrolled in Head Start.

Estimated Total Annual Burden Hours: 313.

Authority: Head Start Act Section 640 [42 U.S.C. 9835]

Mary B. Jones,
ACF/OPRE Certifying Officer.

[FR Doc. 2021-18917 Filed 8-31-21; 8:45 am]

BILLING CODE 4184-22-P